FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than May 23, 2016.

A. Federal Reserve Bank of Atlanta (Chapelle Davis, Assistant Vice President), 1000 Peachtree Street NE., Atlanta, Georgia 30309. Comments can also be sent electronically to Applications.Comments@atl.frb.org:

1. Eslick E. Daniel, individually and as Custodian under the Tennessee Uniform Transfers to Minors Act (TNUTMA) for each of the Crockett Wilson Daniel Trust, the McClain Cherry Daniel Trust, the Anne Eslick Jewell Trust, the Elizabeth Wilson Jewell Trust, the John Berry Jewell V Trust and as Custodian for Hardin Herbert Daniel and the Elizabeth Daniel Jewell; and Anne Herbert Daniel, all of Williamsport, Tennessee; the Daniel Family Partnership of Williamsport, Tennessee; Robert E. Daniel, individually and as Custodian under the TNUTMA for the Fletcher Ewing Daniel Trust, and Amy Cherry Daniel, all of Thompsons Station, Tennessee; Hardin Herbert Daniel, individually and as Custodian under the TNUTMA for the Lola Lucas Daniel Trust and the Evalyn Rose Daniel Trust, and Mary Jacqueline Daniel, all of Nashville, Tennessee; and Elizabeth Ann Daniel Jewell and John Berry Jewel IV, both of Franklin, Tennessee; to acquire voting shares of Community First, Inc., and thereby indirectly acquire voting shares of Community First Bank & Trust, both in Columbia, Tennessee.

2. Ruskin A. Vest, Jr., Melba R. Vest and Ruskin A. Vest, III, all of Columbia, Tennessee; Margaret Anne Vest, Boulder, Colorado; and Rachel V. Kennedy, Culleoka, Tennessee; to acquire voting shares of Community First, Inc., and thereby indirectly acquire voting shares of Community First Bank & Trust, both in Columbia, Tennessee.

B. Federal Reserve Bank of Minneapolis (Jacquelyn K. Brunmeier, Assistant Vice President) 90 Hennepin Avenue, Minneapolis, Minnesota 55480-0291:

1. Leslie Ann Bebee, Wakefield, Nebraska; to acquire voting shares of Citizens Bank Group, Inc., Saint James, Minnesota, and thereby indirectly acquire voting shares of Pioneer Bank, Mapleton, Minnesota.

2. Mark Saliterman, Minnetonka, Minnesota, Julianne Samuelson, Chanhassen, Minnesota, Michael Morton, Minnetonka, Minnesota, Lorilee Wright, Shorewood, Minnesota; to acquire voting shares of Vision Bancshares, Inc., and thereby indirectly acquire voting shares of Vision Bank, both in Saint Louis Park, Minnesota.

Board of Governors of the Federal Reserve System, May 3, 2016.
Michael J. Lewandowski,
Associate Secretary of the Board.

[FR Doc. 2016-10696 Filed 5-5-16; 8:45 am]

BILLING CODE 6210-01-P